DEPARTMENT OF TRANSPORTATION

Federal Aviation Administration

14 CFR Part 71

[Docket No. FAA-2002-13945; Airspace Docket No. 02-AEA-15]

Amendment of Class E Airspace; Wrightstown, NJ

AGENCY: Federal Aviation Administration (FAA) DOT.

ACTION: Final rule; request for comments.

SUMMARY: This action removes the description of the Class E airspace designated for Flying W Airport from the Wrightstown, NJ Class E Airspace description. The affected Class E-5 airspace for the airport will be consolidated into the Philadelphia, PA Class E Airspace description contained in Docket No. FAA-2002-13944; Airspace Docket No. 02-AEA-03, effective March 20, 2003.

DATES: Effective date: March 20, 2003.

Comment Date: Comments must be received on or before January 10, 2003.

ADDRESSES: Send comments on the rule to the Docket Management System, U.S. Department of Transportation, Room Plaza 401, 400 Seveth Street, SW., Washington, DC 20590-0001. You must identify the docket number FAA-2002-13945/Airspace Docket No. 02-AEA-15 at the beginning of your comments. You may also submit comments on the Internet at http://dms.dot.gov. You may review the public docket containing the rule, any comments received, and any final disposition in person in the Docket Office between 9 a.m. and 5 p.m., Monday through Friday, except Federal holidays. The Docket Office (telephone 1-800-647-5527) is on the plaza level of the Department of Transportation NASSIF Building at the above address.

An informal docket may also be examined during normal business hours at the office of the Regional Air Traffic Division, Federal Aviation Administration, Eastern Region, 1 Aviation Plaza, Jamaica, NY 11434-4890.

FOR FURTHER INFORMATION CONTACT: Mr. Francis Jordan, Airspace Specialist, Airspace Branch, AEA-520, Air Traffic Division, Eastern Region, Federal Aviation Administration, 1 Aviation Plaza, Jamaica, NY 11434-4809, telephone (718) 553-4521.

SUPPLEMENTARY INFORMATION: Although this action is a final rule, which involves the amendment of Wrightstown, NJ Class E Airspace, by deleting Flying W Airport and incorporating that airspace into the Philadelphia, PA class E Airspace description, and was not preceded by notice and public procedure, comments are invited on the rule. This rule will become effective on the date specified in the DATES section. However, after the review of any comments and, if the FAA finds that further changes are appropriate, it will initiate rulemaking proceedings to extend the effective date or to amend the regulation.

Comments that provide the factual basis supporting the views and suggestions presented are particularly helpful in evaluating the effects of the rule, and in determining whether additional rulemaking is required. Comments are specifically invited on the overall regulatory, aeronautical, economic, environmental, and energy-related aspects of the rule which might suggest the need to modify the rule.

The Rule

This amendment to Part 71 of the Federal Aviation Regulations (14 CFR part 71) amends the description of Wrightstown, NJ Class E airspace area by removing the airspace designations for Flying W Airport and consolidating that airspace areas into the Philadelphia, PA description. The proliferation of airports with Instrument Flight Rule (IFR) operations in the vicinity of Philadelphia, PA has resulted in overlap of numerous Class E airspace areas and confused charting. This action clarifies the airspace and diminishes the scope and complexity of charting. The IFR airports within those areas would be incorporated into the Philadelphia, PA class E airspace area. Accordingly, since this action merely consolidates airspace areas into one airspace designation and has no consequential impact, notice and public procedure under 5 U.S.C. 553(b) are unnecessary.

Class E airspace designations for airspace extending upward from 700 feet or more above the surface of the earth are published in paragraph 6005 of FAA Order 7400.9K, dated August 30, 2002, and effective September 16, 2002, which is incorporated by reference in 14 CFR 71.1. The Class E airspace designation listed in this document will be published subsequently in the Order. The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporated by reference, Navigation (air).

Adoption of the Amendment

Inconsideration of the foregoing, the Federal Aviation Administration amends 14 CFR Part 71 as follows:

PART 71—[Amended]

1. The authority citation for part 71 continues to read as follows:

Authority: 49 U.S.C. 106(g), 40103, 40113, 40120; E.O. 10854; FR 9565, 3 CFR, 1959-1963 Comp., p. 389.

§ 71.1 [Amended]

2. The incorporation by reference in 14 CFR 71.1 of the Federal Aviation Administration Order 7400.9K, Airspace Designations and Reporting Points, dated August 30, 2002 and effective September 16, 2002, is amended as follows:

Paragraph 6005 Class E Airspace Areas Extending From 700 Feet or More Above the Surface of the Earth

* * * * *

AEA NJ E5 Wrightstown, NJ [Revised]

Lakewood Airport, NJ

(Lat. 40°04′00″N., long. 74°10′40″W.)

McGuire AFB, NJ

(Lat. 40°00′56″N., long. 74°35′37″W.)

Trenton-Robbinsville Airport, NJ

(Lat. 40°12′50″N., long. 74°36′07″W.)

Allaire Airpot, NJ

(Lat. 40°11′13″N., long. 74°07′30″W.)

Robert J. Miller Airpark, NJ

(Lat. 39°55′39″N., long. 74°17′33″W.)

Lakehurst (Navy) TACAN

(Lat. 40°02′13″N., long. 74°21′12″W.)

Colts Neck VOR/DME

(Lat. 40°18′42″N., long. 74°09′36″W.)

Coyle VORTAC

(Lat. 39°49′02″N., long. 74°25′54″W.)

Robbinsville VORTAC

(Lat. 40°12′08″N., long. 74°29′43″W.)

That airspace extending upward from 700 feet above the surface within a 6.4-mile radius of Lakewood Airport and within a 10.5-mile radius of McGuire AFB and within an 11.3-mile radius of the Lakehurst (Navy) TACAN extending clockwise from the Lakehurst (Navy) TACAN 310° radial to the 148° radial and within 4.4 miles each side of the Coyle VORTAC 031° radial extending from the VORTAC to 11.3 miles northeast and within 2.6 miles southwest and 4.4 miles northeast of the Lakehurst (Navy) TACAN 148° radial extending from the TACAN to 12.2 miles southeast and within a 6.4-mile radius of Trenton-Robbinsville Airport and within 5.7 miles north and 4 miles south of the Robbinsville VORTAC 278° and 098° radials extending from 4.8 miles west to 10 miles east of the VORTAC and within a 6.7-mile radius of Allaire Airport and within 1.8 miles each side of the Colts Neck VOR/DME 167° radial extending from the Allaire Airport 6.7-mile radius to the VOR/DME and within 4 miles each side of the 312° bearing from the Allaire airport extending from the 6.7-mile radius of the airport to 9 miles northwest of the airport and within a 6.5-mile radius of Robert J. Miller Air Park and within 1.3 miles each side of the Coyle VORTAC 044° radial extending from the 6.5-mile radius of Robert J. Miller Air Park to the VORTAC, excluding the portions that coincide with the Atlantic City, NJ, Princeton, NJ. Old Bridge NJ, Philadelphia, PA, Class E airspace areas.

* * * * *

Dated: Issued in Jamaica, New York on December 13, 2002.
Richard J. Ducharme,
Assistant Manager, Air Traffic Division, Eastern Region.

[FR Doc. 03-65 Filed 1-2-03; 8:45 am]

BILLING CODE 4910-13-M